DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of March 29, 2010 through April 9, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,842: Dometic Corporation, Sanitation Division, Leased Workers of Mancan, Inc., Big Prairie, OH: May 28, 2008.

TA-W-72,270: Nielsen Bainbridge, LLC, Leased Workers from Wise Staffing, Gainesboro, TN: September 2, 2008.

TA-W-72,349: Calumet Penreco, LLC, Calumet Specialty Products Partners, L.P. Leased Workers Specialized Staffing, Karns City, PA: September 17, 2008.

TA-W-72,964: Jabil Circuit, Inc., Leased Workers of Extra Resources, HCS Resource, and Snelling Personnel, Auburn Hills, MI: January 24, 2009.

TA-W-73,020: Alliance Plastics, Filtrona PLC, Leased Workers From Infinity Resources and Remedy Staffing, Erie, PA: December 2, 2008.

TA-W-73,079: Leviton Manufacturing Company, Southern Devices Division, West Jefferson, NC: December 10, 2008.

TA-W-73,042: American Express, Risk Operations Department of Global Prepaid Business Unit, Salt Lake City, UT: December 2, 2008.

TA-W-71,389: Ann Arbor Machine Company, Chelsea, MI: June 10, 2008.

TA-W-71,606: Ridgway Powdered Metals, Including On-Site Leased Workers of Spherion, Ridgway, PA: July 8, 2008.

TA-W-71,638: Manugraph DGM, Inc., Elizabethville, PA: July 8, 2008.

TA-W-71,883: Johnson Controls Interiors, AG Division, Leased Workers of Kelly Temporary Services, Holland, MI: July 25, 2008.

TA-W-71,988: Kenosha Leatherette and Display Co., Kenosha, WI: July 27, 2008.

TA-W-72,303: Precision Mold Builders, Inc., Poplar Bluff, MO: September 14, 2008.

TA-W-72,448: Karastan, Division of Mohawk Industries, Eden, NC: October 13, 2009.

TA-W-71,532: Sitel Operating Corporation, Madison, WI: June 30, 2008.

TA-W-72,074: Sourcecorp/Imageentry, Monticello, KY: August 12, 2008.

TA-W-73,148A: Regal Ware, Inc., West Bend Manufacturing Plant, West Bend, WI: December 27, 2009.

TA-W-73,148: Regal Ware, Inc., Kewaskum Manufacturing Plant, Kewaskum, WI: December 27, 2009.

TA-W-71,169: Woco Motor Acoustic Systems, Inc., Warren, MI: June 2, 2008.

TA-W-73,193: Bassett Fiberboard, Division of Bassett Furniture Industries, Inc., Leased Workers—Ameristaff, Bassett, VA: December 29, 2008.

TA-W-71,459: Eclipse Aviation Corporation, Albuquerque, NM: June 25, 2008.

TA-W-72,196: Wheeling LaBelle Nail Company, Wheeling, WV: September 1, 2008.

TA-W-72,380A: Huitt Mills, Inc., North Wilkesboro, NC: September 16, 2008.

TA-W-72,380: Huitt Mills, Inc., Hildebran, NC: September 16, 2008.

TA-W-72,550: The College House, Inc., Off-Site Workers Reporting to This Location, Richmond, VA: October 2, 2008.

TA-W-72,817: Powers Manufacturing Company, Allison, IA: November 9, 2008.

TA-W-73,032: JM Products, Inc., Little Rock, AR: December 3, 2008.

TA-W-73,037: Top Fashion, Inc., Brooklyn, NY: December 8, 2008.

TA-W-73,062: Maggy London International, Ltd., New York, NY: September 14, 2008.

TA-W-73,280: Luck Service, Inc., New York, NY: December 30, 2008.

TA-W-73,354: Hugo Boss Cleveland, Inc., Brooklyn, OH: January 14, 2009.

The following certifications have been issued. The requirements of Section 222(a)(2)(B) (shift in production or services) of the Trade Act have been met.

TA-W-70,993: Diebold, Inc., North Canton, OH: June 4, 2008.

TA-W-71,318: ILPEA Industries, Inc., Formerly Holm Industries, Inc., Scottsburg, IN: June 18, 2008.

TA-W-71,467: Phillips and Temro Industries, Inc., Leased Workers of Peak Staffing, Eden Prairie, MN: June 24, 2008.

TA-W-71,783A: Kenworth Truck Company, A Division of PACCAR, Inc. Administrative Department, Renton, WA: July 21, 2008.

TA-W-71,783: Kenworth Truck Company, A Division of PACCAR, Inc. Assembly Department, Renton, WA: July 21, 2008.

TA-W-72,064: MDL Corporation, Leased Workers of Randstad US and T. Tran Corporation, Inc., Langhorne, PA: August 11, 2008.

TA-W-72,085: Eley Corporation, Including On-Site Leased Workers from Allied Staffing, Lincoln, NE: August 18, 2008.

TA-W-72,361: Nidec Sankyo America Corporation, Leased Workers from Elwood Staffing Services, Inc., Shelbyville, IN: September 18, 2008.

TA-W-72,473: Rockwell Automation, Operation Engineering Service Division, Leased Workers from Manpower, etc., Dublin, GA: November 9, 2009.

TA-W-72,498: HSBC Finance Corporation, Mettawa, IL: September 21, 2008.

TA-W-72,521: SmithKline Beecham Corporation, Global Manufacturing and Supply Division (GMS) and Global Pack, Durham, NC: October 6, 2008.

TA-W-72,775: Xaloy Corporation, Formerly Spirex Corporation, Sullivan, WI: November 4, 2008.

TA-W-72,838: Will and Baumer Candle Company, LLC, Leased Workers from First Choice Staffing, Liverpool, NY: November 6, 2008.

TA-W-72,902: Haerter Stamping, LLC, Including Onsite Leased Workers of Express Employment Professionals, Kentwood, MI: November 18, 2008.

TA-W-72,911: Sandvik Hard Materials, West Branch, MI: October 26, 2008.

TA-W-73,095: Avon Products, Inc., Springdale, OH: December 13, 2008.

TA-W-73,138: AstenJohnson, Inc., Appleton Division, Appleton, WI: December 10, 2008.

TA-W-73,184: Trans-Guard Industries, Angola, IN: December 22, 2008.

TA-W-73,432: GHSP, Inc., Troy Division, Leased Workers of Manpower, Troy, MI: January 5, 2010.

TA-W-73,484: Tomcar USA Holdings, Inc., Leased Workers From DCYI and Mcalear Management, Rochester Hills, MI: February 5, 2009.

TA-W-73,541: Transmission Technologies Corporation, KUO Group, Leased Workers from Randstad Temporary Service, Knoxville, TN: February 18, 2009.

TA-W-71,551: Freescale Semiconductor, Inc., Multimedia Applications Division, Austin, TX: July 1, 2008.

TA-W-71,598: Computer Sciences Corporation (CSC), Financial Services Group—Life Business, Irving, TX: June 29, 2008.

TA-W-72,067: Raven Antenna Systems, Engineering Department, f/k/a Raven NC LLC, Skyware Global, Smithfield, NC: August 14, 2008.

TA-W-72,218: SOMA Networks, Inc., San Francisco, CA: August 31, 2008.

TA-W-72,313: Printing Solutions LP, Customer Service Division, Waynesboro, VA: September 4, 2008.

TA-W-72,426: Lexington Herald-Leader Services, Inc., McClatchy Newspaper, Finance Division, Lexington, KY: September 24, 2008.

TA-W-72,798: Barnes Aerospace, Windsor Airmotive Division Including On-Site Leased Workers from KForce, East Granby, CT: November 6, 2008.

TA-W-72,979: TTI Transaction Technologies, Inc., Coin Acceptor's, Inc., Union, MO: October 26, 2008.

TA-W-73,004: Bank of America, N.A., Global Storage and Data Transmission, Albany, NY: November 30, 2008.

TA-W-73,105: Avis Budget Car Rental LLC, Contact Center Operations, Avis Budget Group, Wichita Falls, TX: December 14, 2008.

TA-W-73,130: Hartford Financial Services Group, Inc., IT/Group Benefits Division, Simsbury, CT: December 17, 2008.

TA-W-73,208: Nomura Asset Management U.S.A., Inc., Portfolio Management Group, New York, NY: December 12, 2008.

TA-W-73,385: Hewlett Packard, Imaging and Printing Group Operations, Palo Alto, CA: January 28, 2009.

TA-W-73,426: FCI USA, LLC, Corporate Administrative Division, Leased Workers of JFC, Etters, PA: February 1, 2009.

TA-W-72,808: Comcast, West Division, Leased Workers of Convergys, Employers Overload, Beaverton, OR: November 5, 2008.

TA-W-72,944: International Paper Company, Xpedx-Harrisburg NSSC, Camp Hill, PA: November 24, 2008.

TA-W-73,081: Paramount Pictures Corporation, Information Technology Production Engineering Group, Los Angeles, CA: November 30, 2008.

TA-W-73,162: Imation Corporation, Infrastructure and Operations Div., Leased Workers from Charter Solutions, Oakdale, MN: December 21, 2008.

TA-W-73,179: Axiom XCell, Inc., San Diego, CA: December 11, 2008.

The following certifications have been issued. The requirements of Section 222(c) (supplier to a firm whose workers are certified eligible to apply for TAA) of the Trade Act have been met.

TA-W-71,067: Plastic Trim International, Inc., East Tawas, MI: June 8, 2008.

TA-W-71,204: Keystone Powdered Metal Company, St. Marys Division, St. Marys, PA: June 15, 2008.

TA-W-71,405: A. Schulman, Inc., Bellevue, OH: June 23, 2008.

TA-W-71,426: Lordstown Seating Systems, Magna Seating, Lordstown, OH: June 25, 2008.

TA-W-71,678: Johnson Controls Seating Systems, LLC, Johnson Controls, Inc. Holdings, Leased Workers from Kelly Services, Columbia, TN: July 14, 2008.

TA-W-71,991: Ironwood Plastics, Inc., Ironwood, MI: August 3, 2008.

TA-W-72,189: DME Company, LLC, Youngwood, PA: August 14, 2008.

TA-W-72,194: Pendleton Woolen Mills, Inc., Washougal, WA: August 24, 2008.

TA-W-72,572: AZ Automotive Corporation, AIG Vantage Capital LP, Center Line, MI: October 9, 2008.

TA-W-72,671: Stein, Inc., Republic Engineered Products, Inc., Lorain, OH: October 23, 2008.

TA-W-72,934: Duluth Services, A Subsidiary of Aerotek, Orion, MI: November 23, 2008.

TA-W-73,222: Weyerhaeuser Longview Logging, Castle Rock, WA: January 5, 2009.

TA-W-73,256: Kyoho Manufacturing California (KHMCA), Leased Workers form Aerotek Staffing, Stockton, CA: January 12, 2009.

TA-W-73,325: Trim Masters, Inc., ICI, Modesto, CA: January 19, 2009.

TA-W-73,524: Evansville Association for the Blind, Evansville, IN: February 2, 2009.

TA-W-73,582: EDAG, LLC, Auburn Hills, MI: February 4, 2009.

The following certifications have been issued. The requirements of Section 222(c) (downstream producer for a firm whose workers are certified eligible to apply for TAA) of the Trade Act have been met.

TA-W-71,857: J.J. Bouchard, Inc., Van Buren, ME: July 27, 2008.

TA-W-72,260: HDM Transportation, Lenoir, NC: September 9, 2008.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-71,771: MEI, LLC, Metal Fabrication Division, Albany, OR.

TA-W-72,036: Ameriprise Financial, Inc., Area Office 133, Akron, OH.

TA-W-73,209: CL Automotive, LLC, Highland Park, MI.

TA-W-73,267: Johnston Supply, Inc., Ashland, OH.

TA-W-73,273: Energy Group Solutions L.L.C., New York, NY.

TA-W-73,578: Burns Industrial Group, Strongsville, OH.

The investigation revealed that the criteria under paragraphs (a)(2)(A)(i) (decline in sales or production, or both) and (a)(2)(B) (shift in production or services to a foreign country) of section 222 have not been met.

TA-W-71,432: Baxter Healthcare Corporation, Mountain Home, AR.

The investigation revealed that the criteria under paragraphs (a)(2)(A) (increased imports) and (a)(2)(B) (shift in production or services to a foreign country) of section 222 have not been met.

TA-W-70,896: Neenah Paper, Neenah, WI.

TA-W-70,922: Hewes Marine Company, Inc., Colville, WA.

TA-W-71,087: Formed Fiber Technologies, Inc., Sidney, OH.

TA-W-71,215: Carl W. Newell Manufacturing, Inc., Glendale, CA.

TA-W-71,515: Hoosier Spline Broach Corporation, Kokomo, IN.

TA-W-71,577: American Coil Systems, LLC, Dallas Industries, Troy, MI.

TA-W-71,597: Siemens Energy and Automation, Inc., Portland, OR.

TA-W-71,690: Certainteed Corporation, Siding Products Group, Claremont, NC.

TA-W-71,758: TTI International, Inc., TTI International LTD, Waukegan, IL.

TA-W-71,887: Carolina Specialty Tools, Inc., Connelly Springs, NC.

TA-W-70,901: Dana Classic Fragrances, Deerfield Beach, FL.

TA-W-71,393: Ethan Allen Retail, Inc., Ethan Allen Global, Ethan Allen Interiors, Wexford, PA.

TA-W-71,555: Carbone of America Industries Corp., Subsidiary of Carbone Lorraine, St. Marys, PA.

TA-W-71,672: BBDO Detroit, Leased Workers from New Dimensions and Computer Aid, Inc., Troy, MI.

TA-W-71,766: General Electric Energy, Subsidiary General Electric Service Parts and Repair Division, Cincinnati, OH.

TA-W-72,061: Butler Manufacturing, Bluescope Steel North America Company, Peoria, IL.

TA-W-72,137A: DHL Express, Troy, MI.

TA-W-72,137B: DHL Express, Southfield, MI.

TA-W-72,137: DHL Express, Romulus, MI.

TA-W-72,367: United Airlines, Operations Centers, Information Technology Division, United Airlines Corporation, Elk Grove Village, IL.

TA-W-72,532: Lower Columbia Head and Neck Associates, Longview, WA.

TA-W-72,545: Century Dodge, Chrysler, Jeep, Wentzville, MO.

TA-W-72,607: Bebe Store, Inc., Benicia, CA.

TA-W-72,750: Schneider National Carriers, Inc., Seville, OH.

TA-W-72,832: Verizon Services Corp., Network Maintenance Operations Center, Falls Church, VA.

TA-W-72,899: Weatherford International, Ozona, TX.

TA-W-73,565: Fred Martin Superstore, Barberton, OH.

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W-71,538: Ricerca Biosciences, LLC, Concord, OH.

TA-W-71,843: Nioxin Research Laboratories, Inc., Leased Workers from Selectsource Staffing and Blusetart Staffing, Lithia Springs, GA.

TA-W-72,523: Warner Automotive Group, Inc., dba Warner Chevrolet Cadillac, Tiffin, OH.

TA-W-73,275: Cummins Bridgeway, LLC, New Hudson, MI.

TA-W-73,419: Bimbo Bakeries USA, Inc., Horsham, PA.

TA-W-73,662: Saxon, Elk River, MN.

TA-W-73,716: Kmart, A Division of Sears Holding Corp, Huber Heights, OH.

TA-W-73,761: Kmart, Milford, OH.

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W-73,076: TRI-DIM Filter Corp., Working on-Site at Chrysler Group, LLC, Belvidere, IL.

TA-W-73,181: Advanced Technology Services, Inc., Peoria, IL.

The following determinations terminating investigations were issued because the petitioning groups of workers are covered by active certifications. Consequently, further investigation in these cases would serve no purpose since the petitioning group of workers cannot be covered by more than one certification at a time.

TA-W-72,245: Camshaft Machine Company, LLC., Jackson, MI, covered by TA-W-73,308: Camshaft Machine Company, LLC., Jackson, MI.

TA-W-72,679: Logistics Management Services, Inc., Worked on-site at Chrysler LLC, Fenton, MO, Fenton, MO, covered by TA-W-63,052, as amended: Chrysler LLC, including on-site leased workers from Logistics Management Services, Inc.

TA-W-73,329: Resinoid Engineering Corporation, Heath, OH, covered by TA-W-71,175A: Resinoid Engineering Corporation, Heath, OH.

TA-W-73,559: APM Terminals, A.P. Moller-Maersk Group, Charlotte, NC, covered by TA-W-71,914: Maersk Line, a wholly owned subsidiary of APM Terminals, A.P. Moller-Maersk Group, Charlotte, NC.

TA-W-73,748: Commercial Construction Management and Resource, Milford, OH, covered by TA-W-70,115: Senco Brands, Inc., as amended: included on-site leased workers from Commercial Construction Management and Resource, Milford, OH.

TA-W-73,801: Diebold, Inc., North Canton, OH, covered by TA-W-70,993: Diebold, Inc., North Canton, OH.

The following determinations terminating investigations were issued because the petitions are the subject of ongoing investigations under petitions filed earlier covering the same petitioners.

TA-W-73,219: IBM Corporation, Division 7 Server Support, Armonk, NY, covered by TA-W-218: IBM Corporation, Division 7 Server Support, Armonk, NY.

TA-W-73,227: Rexam Beverage Can North America, Oklahoma City, OK, covered by TA-W-70,982: Rexam Beverage Can North America, Oklahoma City, OK.

TA-W-73,673: General Motors Corporation, Detroit, MI, covered by TA-W-73,164: General Motors Renaissance Center, Detroit, MI.

TA-W-73,731: The Berry Company LLC, Erie, PA, covered by TA-W-72,706: The Berry Company LLC, Erie, PA.

The following determinations terminating investigations were issued because the Department issued a negative determination on petitions related to the relevant investigation period applicable to the same worker group. The duplicative petitions did not present new information or a change in circumstances that would result in a reversal of the Department's previous negative determination, and therefore, further investigation would duplicate efforts and serve no purpose.

TA-W-71,573: Severstal Wheeling, Inc., Wheeling, WV.

TA-W-73,318: Cascade Grain Products, LLC, Clatskanie, OR.

I hereby certify that the aforementioned determinations were issued during the period of March 29, 2010 through April 9, 2010. Copies of these determinations may be requested under the Freedom of Information Act. Request may be submitted by fax, courier services, or mail to FOIA Disclosure Officer, Office of Trade Adjustment Assistance (ETA), U.S. Department of Labor, 200 Constitution Avenue, NW., Washington, DC 20210 or to foiarequest@dol.gov. These determinations also are available on the Department's Web site at http://www.doleta.gov/tradeact under the searchable listing of determinations.

Dated: April 29, 2010.
Elliott S. Kushner,
Certifying Officer, Division of Trade Adjustment Assistance.

[FR Doc. 2010-10520 Filed 5-4-10; 8:45 am]

BILLING CODE 4510-FN-P